FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than March 21, 2003.

A. Federal Reserve Bank of Dallas (W. Arthur Tribble, Vice President) 2200 North Pearl Street, Dallas, Texas 75201-2272:

1. Robert C. Dunn, Jr., Hobbs, New Mexico, as trustee for the Dunn Family Trust, Hobbs, New Mexico; Keith Wayland Pearson, Gainsville, Texas; Samuel S. Spencer Jr., Hobbs, New Mexico, as trustee for the Separate Property Trust, Hobbs, New Mexico; and William Trent Stradley, Seminole, Texas, to acquire voting common stock of Lea County Bancshares, Inc., Hobbs, New Mexico, and indirectly acquire voting common stock of Lea County State Bank, Hobbs, New Mexico.

Board of Governors of the Federal Reserve System, March 3, 2003.
Robert deV. Frierson,
Deputy Secretary of the Board.

[FR Doc. 03-5367 Filed 3-6-03; 8:45 am]

BILLING CODE 6210-01-S